DEPARTMENT OF ENERGY

Federal Energy Regulatory Commission

[Project No. 2997-031]

South Sutter Water District; Notice Soliciting Scoping Comments

Take notice that the following hydroelectric application has been filed with the Commission and is available for public inspection.

a. Type of Application: Major, new license.

b. Project No.: P-2997-031.

c. Date filed: July 1, 2019.

d. Applicant: South Sutter Water District.

e. Name of Project: Camp Far West Hydroelectric Project.

f. Location: The existing hydroelectric project is located on the Bear River in Yuba, Nevada, and Placer Counties, California. The project, with the proposed project boundary modifications, would occupy a total of 2,674 acres. No Federal or tribal lands occur within or adjacent to the project boundary or along the Bear River downstream of the project.

g. Filed Pursuant to: Federal Power Act 16 U.S.C. 791 (a)-825(r).

h. Applicant Contact: Mr. Brad Arnold, General Manager, South Sutter Water District, 2464 Pacific Avenue, Trowbridge, California 95659.

i. FERC Contact: Quinn Emmering, (202) 502-6382, quinn.emmering@ferc.gov.

j. Deadline for filing scoping comments: July 9, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2997-031.

k. This application is not ready for environmental analysis at this time.

l. The existing Camp Far West Hydroelectric Project operates to provide water during the irrigation season, generate power, and meet streamflow requirements for the Bear River. The existing project includes: (1) A 185-foot-high, 40-foot-wide, 2,070-foot-long, earth-filled main dam; (2) a 45-foot-high, 20-foot-wide, 1,060-foot-long, earth-filled south wing dam; (3) a 25-foot-high, 20-foot-wide, 1,460-foot-long, earth-filled north wing dam; (4) a 15-foot-high, 20-foot-wide, 1,450-foot-long, earth-filled north dike; (5) a 2,020-acre reservoir with a gross storage capacity of about 104,000 acre-feet at the normal maximum water surface elevation (NMWSE) of 300 feet; (6) an overflow spillway with a maximum design capacity of 106,500 cubic feet per second (cfs) at a reservoir elevation of 320 feet with a 15-foot-wide concrete approach apron, 300-foot-long ungated, ogee-type concrete structure, and a 77-foot-long downstream concrete chute with concrete sidewalls and a 302.5-foot single span steel-truss bridge across the spillway crest; (7) a 1,200-foot-long, unlined, rock channel that carries spill downstream to the Bear River; (8) a 22-foot-high, concrete, power intake tower with openings on three sides protected by steel trashracks; (9) a 25-foot-4-inch-high, concrete, intake tower with openings on three sides, each of which is protected by steel trashracks that receives water for the outlet works; (10) a 760-foot-long, 8-foot-diameter concrete tunnel through the left abutment of the main dam that conveys water from the power intake to the powerhouse; (11) a steel-reinforced, concrete powerhouse with a 6.8-megawatt, vertical-shaft, Francis-type turbine, which discharges to the Bear River at the base of the main dam; (12) a 350-foot-long, 48-inch-diameter steel pipe that conveys water from the intake structure to a valve chamber for the outlet works; (13) a 400-foot-long, 7.5-foot-diameter concrete-lined horseshoe tunnel that connects to the valve chamber to a 48-inch-diameter, Howell Bunger outlet valve with a capacity of 500 cfs that discharges directly into the Bear River; (14) a fenced switchyard adjacent to the powerhouse; (15) two recreation areas with campgrounds, day-use areas, boat ramps, restrooms, and sewage holding ponds; and (16) a recreational water system that includes two pumps in the reservoir that deliver water to a treatment facility that is piped to a 60,000-gallon storage tank to supply water to recreation facilities. The project has no transmission facilities. The estimated average annual generation (2010 to 2017) is 22,637 megawatt-hours.

South Sutter Water District proposes to: (1) Raise the NMWSE of the project reservoir by 5 feet from an elevation of 300 feet to an elevation of 305 feet; (2) raise the crest of the existing spillway from an elevation of 300 feet to an elevation of 305 feet to accommodate the proposed pool raise; (3) replace and restore several recreation facilities; (4) add an existing 0.25-mile road as a primary project road to access the powerhouse and switchyard; and (5) modify the project boundary to account for the removal of the 1.9-mile-long transmission line from the license in 1991, corrections based on current project operation and maintenance, and changes under the category of a contour 20 feet above the 300-feet NMWSE or proximity of 200-horizontal-feet from the 300-foot NMWSE.

m. In addition to publishing the full text of this document in the Federal Register. The Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

n. You may also register online at http://www.ferc.gov/docs-filing/esubscription.asp to be notified via email of new filings and issuances related to this or other pending projects. For assistance, contact FERC Online Support.

o. Scoping Process

The Commission staff intends to prepare an Environmental Assessment (EA) for the Camp Far West Hydroelectric Project in accordance with the National Environmental Policy Act. The EA will consider both site-specific and cumulative environmental impacts and reasonable alternatives to the proposed action.

Commission staff does not anticipate holding a formal public or agency scoping meeting. Instead, we are soliciting comments, recommendations, and information, on the Scoping Document (SD) issued on June 9, 2020.

Copies of the SD outlining the subject areas to be addressed in the EA were distributed to the parties on the Commission's mailing list and the applicant's distribution list. Copies of the SD may be viewed on the web at http://www.ferc.gov using the “eLibrary” link. Enter the docket number excluding the last three digits in the docket number field to access the document. For assistance, call 1-866-208-3676 or for TTY, (202) 502-8659.

Dated: June 9, 2020.
Kimberly D. Bose,
Secretary.

[FR Doc. 2020-12831 Filed 6-12-20; 8:45 am]

BILLING CODE 6717-01-P